DEPARTMENT OF COMMERCE

Foreign-Trade Zones Board

[S-83-2018]

Approval of Subzone Status; Black & Decker, Inc.; Fort Mill, South Carolina

On May 30, 2018, the Executive Secretary of the Foreign-Trade Zones (FTZ) Board docketed an application submitted by the South Carolina State Ports Authority, grantee of FTZ 38, requesting subzone status subject to the existing activation limit of FTZ 38, on behalf of Black & Decker, Inc., in Fort Mill, South Carolina. Black & Decker, Inc. indicates that it will conduct the same activity as currently authorized by the FTZ Board at its Subzone 38E.

The application was processed in accordance with the FTZ Act and Regulations, including notice in the Federal Register inviting public comment (83 FR 26255-26256, June 6, 2018). The FTZ staff examiner reviewed the application and determined that it meets the criteria for approval. Pursuant to the authority delegated to the FTZ Board Executive Secretary (15 CFR 400.36(f)), the application to establish Subzone 38M was approved on July 20, 2018, subject to the FTZ Act and the Board's regulations, including Section 400.13, and further subject to FTZ 38's 2,000-acre activation limit.

Dated: July 20, 2018.
Elizabeth Whiteman,
Acting Executive Secretary.

[FR Doc. 2018-15973 Filed 7-25-18; 8:45 am]

BILLING CODE 3510-DS-P